DEPARTMENT OF ENERGY

Federal Energy Regulatory Commission

Combined Notice of Filings

Take notice that the Commission has received the following Natural Gas Pipeline Rate and Refund Report filings:

Filings Instituting Proceedings

Docket Numbers: RP16-315-000.

Applicants: Northern Natural Gas Company.

Description: Section 4(d) rate filing per 154.204: 20151221 Non Conforming to be effective 1/20/2016.

Filed Date: 12/21/15.

Accession Number: 20151221-5273.

Comments Due: 5 p.m. ET 1/4/16.

Docket Numbers: RP16-316-000.

Applicants: Paiute Pipeline Company.

Description: Compliance filing per 154.203: Compliance Filing: 12-14-15 Order on Rehearing in CP14-509 to be effective 12/15/2015.

Filed Date: 12/22/15.

Accession Number: 20151222-5092.

Comments Due: 5 p.m. ET 1/4/16.

Docket Numbers: RP16-317-000.

Applicants: Bluewater Gas Storage, LLC.

Description: Section 4(d) rate filing per 154.204: Bluewater Gas Storage, LLC—Revisions to FERC Gas Tairfff to be effective 1/22/2016.

Filed Date: 12/22/15.

Accession Number: 20151222-5099.

Comments Due: 5 p.m. ET 1/4/16.

Docket Numbers: RP16-318-000.

Applicants: Sea Robin Pipeline Company, LLC.

Description: Compliance filing per 154.203: Annual Flowthrough Crediting Mechanism filing on 12/22/15 to be effective N/A.

Filed Date: 12/22/15.

Accession Number: 20151222-5243.

Comments Due: 5 p.m. ET 1/4/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-54-001.

Applicants: Equitrans, L.P.

Description: Compliance filing per 154.203: AVC ADIT PLR Compliance Filing to be effective 12/1/2015.

Filed Date: 12/21/15.

Accession Number: 20151221-5088.

Comments Due: 5 p.m. ET 1/4/16.

Docket Numbers: RP16-137-002.

Applicants: Tallgrass Interstate Gas Transmission, L.

Description: Compliance filing per 154.203: Compliance Filing for Rate Case to be effective 12/1/2015.

Filed Date: 12/21/15.

Accession Number: 20151221-5001.

Comments Due: 5 p.m. ET 1/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 24, 2015.
Nathaniel J. Davis, Sr.,
Deputy Secretary

[FR Doc. 2015-32883 Filed 12-29-15; 8:45 am]

BILLING CODE 6717-01-P